DEPARTMENT OF THE INTERIOR

National Park Service.

Notice of Inventory Completion for Native American Human Remains and Associated Funerary Objects in the Possession of The State Museum of Pennsylvania, Harrisburg, PA

AGENCY: National Park Service.

ACTION: Notice.

Notice is hereby given in accordance with provisions of the Native American Graves Protection and Repatriation Act (NAGPRA), 43 CFR 10.9, of the completion of an inventory of human remains and associated funerary objects in the possession of The State Museum of Pennsylvania, Harrisburg, PA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by The State Museum of Pennsylvania professional staff in consultation with representatives of the Wyandotte Tribe of Oklahoma.

At an unknown time, human remains representing 29 individuals and 53 associated funerary objects were removed during excavations at the Wyandotte Town Site (also known as the West Pittsburg Site) (36Lr1), Taylor Township, Lawrence County, PA by Marco Hervatin. Mr. Hervatin donated the remains and objects to The State Museum of Pennsylvania in 1961. No known individuals were identified. The associated funerary objects include buckskin leather fragments, unidentified organic material, brass rings, shell beads, and miscellaneous iron fragments with wood attached.

The Euroamerican assemblage of objects found with the remains dates the burials to the 18th century. Ethnohistoric, documentary, and archeological evidence indicates that the Wyandotte Town Site was occupied by the Wyandotte Indians between A.D. 1747-1750. There is no evidence to contradict this.

Based on the above-mentioned information, officials of The State Museum of Pennsylvania have determined that, pursuant to 43 CFR 10.2 (d)(1), the human remains listed above represent the physical remains of 29 individuals of Native American ancestry. Officials of The State Museum of Pennsylvania also have determined that, pursuant to 43 CFR 10.2 (d)(2), the 53 objects listed above are reasonably believed to have been placed with or near individual human remains at the time of death or later as part of the death rite or ceremony. Lastly, officials of The State Museum of Pennsylvania have determined that, pursuant to 43 CFR 10.2 (e), there is a relationship of shared group identity that can be reasonably traced between these Native American human remains and associated funerary objects and the Wyandotte Tribe of Oklahoma.

This notice has been sent to officials of the Wyandotte Tribe of Oklahoma. Representatives of any other Indian tribe that believes itself to be culturally affiliated with these human remains and associated funerary objects should contact Stephen G. Warfel, Senior Curator, Archaeology, The State Museum of Pennsylvania, 300 North Street, Harrisburg, PA 17120-0024, telephone (717) 783-2887, before November 24, 2000. Repatriation of the human remains and associated funerary objects to the Wyandotte Tribe of Oklahoma; may begin after that date if no additional claimants come forward.

Dated: October 16, 2000.
John Robbins,
Assistant Director, Cultural Resources Stewardship and Partnerships.

[FR Doc. 00-27397 Filed 10-24-00; 8:45 am]

BILLING CODE 4310-70-F